DEPARTMENT OF HOMELAND SECURITY

Federal Emergency Management Agency

[Docket ID: FEMA-2020-0008]

Request for Information on Effectiveness in Maintaining and Improving State, Local, Tribal, and Territorial Preparedness

AGENCY: Federal Emergency Management Agency, DHS.

ACTION: Notice and request for information.

SUMMARY: The Federal Emergency Management Agency (FEMA) is issuing this Request for Information (RFI) to receive information in response to a list of priority research questions to further understand existing evidence on the Homeland Security Grant Program's (HSGP's) influence on State, local, Tribal, and territorial (SLTT) preparedness. The HSGP includes a suite of risk-based grants to assist SLTT efforts in preventing, preparing for, protecting against, and responding to acts of terrorism. HSGP funding can also be used to enhance preparedness for other catastrophic events (e.g., hurricanes, wildfires) when the use of such funds has a nexus to preventing, preparing for, protecting against, and responding to terrorism.

DATES: Comments must be received by November 9, 2020.

ADDRESSES: You may submit comments, identified by docket ID FEMA-2020-0008, by one of the following methods:

Federal eRulemaking Portal: http://wwww.regulations.gov. Follow the instructions for submitting comments.

See the “Public Participation” portion of the SUPPLEMENTARY INFORMATION section for further instructions on submitting comments.

FOR FURTHER INFORMATION CONTACT: Bethany Slater, Program Analyst, Measures and Standards Branch, National Preparedness Assessment Division, National Preparedness Directorate, FEMA, DHS, 400 C St. SW, Washington DC 20472, Bethany.Slater@fema.dhs.gov, 202-717-4111.

SUPPLEMENTARY INFORMATION:

I. Public Participation

Instructions: All submissions received must include the agency name and docket ID. All submissions will be posted, without change, to the Federal eRulemaking Portal at http://www.regulations.gov, and will include any personal information you provide. Therefore, submitting this information makes it public. You may wish to read the Privacy and Security notice, which can be viewed by clicking on the “Privacy and Security Notice” link on the homepage of www.regulations.gov.

You may submit your comments and material by the methods specified in the ADDRESSES section. Please submit your comments and any supporting material by only one means to avoid the receipt and review of duplicate submissions.

Docket: For access to the docket to read background documents or comments received, go to the Federal eRulemaking Portal at http://www.regulations.gov and search for the Docket ID.

II. Background and Purpose

HSGP provides funds to eligible entities to support SLTT efforts to prevent terrorism and to prepare the Nation for the threats and hazards that pose the greatest risk to the security of the United States. HSGP funding can also be used to enhance preparedness for other catastrophic events (e.g., hurricanes, wildfires) when the use of such funds has a nexus to preventing, preparing for, protecting against, and responding to terrorism. Since its creation in 2003, HSGP annually issued between $850 million and $2.5 billion in grant funding to support SLTT governments.

As administered by FEMA, HSGP consists of three subcomponent programs: State Homeland Security Program (SHSP), Urban Area Security Initiative (UASI), and Operation Stonegarden. See FEMA, Homeland Security Grant Program, https://www.fema.gov/homeland-security-grant-program (last visited Feb. 28, 2020). This request for information is limited to SHSP and UASI.

The Homeland Security Act of 2002 authorizes the Department of Homeland Security (DHS)/FEMA to award SHSP and UASI funding to each State, territory, and high-risk urban area based on: (1) Its relative threat, vulnerability, and consequence from acts of terrorism, and (2) the anticipated effectiveness of the proposed use of the grant to prepare for, protect against, and respond to acts of terrorism. See 6 U.S.C. 608. Grant dollars are administrated by State Administrative Agencies who are generally required to pass-through at least 80 percent of SHSP and UASI funds to local or Tribal jurisdictions. See 6 U.S.C. 604(d)(2)(A), 605(c)(1)(A)-(C).

As the administrator of HSGP, FEMA is interested in identifying existing evidence, tools and methods to better evaluate the effectiveness of HSGP as it pertains to maintaining and improving SLTT and national preparedness. FEMA's National Preparedness Assessment Division has documented its past and current grant effectiveness strategy in its document “Grant Effectiveness Strategic Vision 2.0 Homeland Security Grant Program.” See FEMA, Grant Effectiveness Strategic Vision 2.0—Homeland Security Grant Program, https://www.fema.gov/media-library/assets/documents/186474 (last visited Mar. 26, 2020). The objectives for this vision are:

Objective 1: Implement projects that address State and national priorities;

Objective 2: Improve capabilities and achieve preparedness outcomes; and

Objective 3: Manage projects in accordance with Federal standards and guidance.

The purpose of this RFI is for FEMA to receive information in response to a list of priority research questions to further understand existing evidence on the influence of HSGP on SLTT and national preparedness. FEMA requests information on research studies, program evaluations, and/or meta-analyses that provide empirical findings relevant to the research questions outlined below. FEMA is interested in evidence on the contributions of HSGP-funded projects (or projects that could be funded through HSGP in the future). Such evidence would ideally include quantitative measurements of how such projects help maintain or improve SLTT and national capabilities to prepare for, protect against, respond to, recover from, and mitigate all hazards and/or the risk of hazards. Additional broader quantitative research may also be helpful, such as research pertaining to interventions that help prevent or reduce the risk that an event will occur, or the impact of such events. Such research could relate to any of a range of interventions, including interventions that address public health, environmental conservation, domestic violence, criminal recidivism, and drug use. Helpful research may use capacity or capability assessments to measure changes in outcomes over time after an intervention, or may use grant administrative data for evaluation. Finally, FEMA would also be interested in learning of ongoing or current studies that are in process, for which study findings will not be available at the time that comments in response to this notice are due, such as research question being addressed, sample size, study timeline, and registry where the study findings will be made available.

This information will assist FEMA understand existing empirical and other evidence, methods being utilized, available data, and research gaps to prioritize future evaluation funding. This will also help FEMA understand if this is an area where limited research and evaluation is available.

III. List of Questions for Commenters

FEMA seeks information on the following: (1) Existing evidence regarding HSGP effectiveness, and (2) Evidence from other programs or research areas that FEMA can rely upon to expand or revise the HSGP research agenda, such as by changing how FEMA and HSGP grantees and subgrantees measure outputs/outcomes, assess capacity/capability, and use grants administrative data for evaluation.

Priority Research Questions for FEMA on HSGP include:

1. What studies and evidence exist on assessing HSGP outcomes? What are the study, findings, sample, and methods employed? Is there a URL(s) publicly available with the study report and information?

2. What meta-analysis and/or summaries of evidence exist on the HSGP program?

Supporting questions specific to HSGP:

3. What outputs and outcomes are HSGP grants achieving?

4. How well does HSGP funding help build and sustain core capabilities? (https://www.fema.gov/core-capability-development-sheets)

5. How does HSGP funding affect identified capability gaps?

6. Which HSGP funding activities most effectively close capability gaps?

7. How do participants' KSAs (knowledge, skills, and abilities) change after completing an HSGP-funded training, after creating or enhancing an HSGP-funded plan, and/or after completing an HSGP-funded exercise?

8. How does HSGP funding influence grant recipient preparedness?

9. How well do HSGP investments contribute to preparedness for and response to real world incidents?

10. How well have HSGP projects reduced the risk of real-world incidents?

Broader Research Questions

Outputs/Outcomes/Benefits/Success metrics:

11. FEMA is interested in performance management and program evaluations conducted by HSGP award recipients, beyond what is reported to FEMA. What additional output and outcome measurements have been determined as crucial to determining program results and are beyond FEMA reporting requirements? What were the results of evaluations, if conducted?

12. What are the best output and outcome metrics to measure prevention of either a human-caused or natural incident (e.g., terrorism, cyber-attack, hurricane)?

13. What are the best output and outcome metrics to measure the reduction of risk posed by terrorism or other incidents?

14. What is the best way to measure the quality of a planning document and to measure the improvement in outputs and outcomes resulting from the planning document's creation?

15. What is the best way to use exercises to measure change or improvement through exercises?

Capacity/Capability Assessments:

16. Are there specific interventions that would more properly be the subject of HSGP funding? What is the best way to measure improvements in grant recipient capabilities due to grant funding?

17. With respect to specific interventions that might properly be the subject of HSGP funding, if measuring change through self-reported assessments, what is a feasible expectation for magnitude of improvement within a specified timeframe?

18. Please provide examples of instruments provided to grant recipients for self-assessments and which result in information that is useful for both grant recipients and funders. Of particular interest are instruments that can be implemented by users with a wide range of evaluation or measurement experience (i.e., none to expert).

Grant Administration & Evaluation:

19. Have formula or block grants (grants not competitively awarded) been successfully evaluated for effectiveness? What was the study design and sample, and what were the findings?

20. How do Federal agencies use administrative data to understand grant effectiveness in instances when grant implementation is at the state and local level?

Evidence on Program Impacts and Grant Effectiveness

21. Have impact evaluations been conducted that look at the difference between a control or comparison group and the treatment group? What are the study research question(s), design, sample, and findings? Where can more information on the study be found?

Dissemination of Results:

FEMA staff developed the RFI questions and will analyze the responses. We expect the analysis period to deepen our vision and understanding of the relationships between homeland security grants and overall preparedness.

Rights to Materials Submitted: By submitting material in response to this RFI, the respondent is agreeing to grant DHS a worldwide, royalty-free, perpetual, irrevocable, non-exclusive license to use the material and to make it publicly available. Further, the respondent agrees that it owns, has a valid license, or is otherwise authorized to provide the material to DHS.

This RFI is issued for information and planning purposes only and does not constitute an offer by the Federal Government to fund, as a whole or in part, the opportunities referenced herein. This RFI does not represent a pre-solicitation synopsis or a solicitation and does not constitute a request for proposal or request for quote.

The Federal Government will not pay for any information or administrative costs incurred in responding to this RFI; all costs associated with responding to this RFI will be solely at the interested party's expense. Any response received will not be used as a proposal or quote. The responses to this RFI will be reviewed by the Federal Government and may be used to develop requirements for future needs.

Pete Gaynor,
Administrator, Federal Emergency Management Agency.

[FR Doc. 2020-12620 Filed 6-10-20; 8:45 am]

BILLING CODE 9111-46-P